DEPARTMENT OF ENERGY

Federal Energy Regulatory Commission

Combined Notice of Filings #1

Take notice that the Commission received the following exempt wholesale generator filings:

Docket Numbers: EG21-249-000.

Applicants: Bellflower Solar 1, LLC.

Description: Notice of Self-Certification of Exempt Wholesale Generator Status of Bellflower Solar 1, LLC.

Filed Date: 9/14/21.

Accession Number: 20210914-5182.

Comment Date: 5 p.m. ET 10/5/21.

Docket Numbers: EG21-250-000.

Applicants: Black Bear Alabama Solar 1, LLC.

Description: Notice of Self-Certification of Exempt Wholesale Generator Status of Black Bear Alabama Solar 1, LLC.

Filed Date: 9/14/21.

Accession Number: 20210914-5183.

Comment Date: 5 p.m. ET 10/5/21.

Docket Numbers: EG21-251-000.

Applicants: Happy Solar 1, LLC.

Description: Notice of Self-Certification of Exempt Wholesale Generator Status of Happy Solar 1, LLC.

Filed Date: 9/14/21.

Accession Number: 20210914-5186.

Comment Date: 5 p.m. ET 10/5/21.

Docket Numbers: EG21-252-000.

Applicants: Sun Mountain Solar 1, LLC.

Description: Notice of Self-Certification of Exempt Wholesale Generator Status of Sun Mountain Solar 1, LLC.

Filed Date: 9/14/21.

Accession Number: 20210914-5188.

Comment Date: 5 p.m. ET 10/5/21.

Take notice that the Commission received the following electric rate filings:

Docket Numbers: ER21-2007-001.

Applicants: Southwest Power Pool, Inc.

Description: Compliance filing: Compliance Filing in Response to Order Issued in ER21-2007 (CNPPID) to be effective 1/1/2022.

Filed Date: 9/15/21.

Accession Number: 20210915-5095.

Comment Date: 5 p.m. ET 10/6/21.

Docket Numbers: ER21-2423-001.

Applicants: Generation Bridge Connecticut Holdings, LLC.

Description: Tariff Amendment: Amendment to Market-Based Rate Application and Response to Deficiency Letter to be effective 7/15/2021.

Filed Date: 9/14/21.

Accession Number: 20210914-5165.

Comment Date: 5 p.m. ET 10/5/21.

Docket Numbers: ER21-2888-000.

Applicants: Tri-State Generation and Transmission Association, Inc.

Description: § 205(d) Rate Filing: Amendment to Rate Schedule No. 71 to be effective 9/16/2021.

Filed Date: 9/15/21.

Accession Number: 20210915-5068.

Comment Date: 5 p.m. ET 10/6/21.

Docket Numbers: ER21-2889-000.

Applicants: PSEG Keys Energy Center LLC.

Description: § 205(d) Rate Filing: Clean-Up of Market-Based Rate Tariffs to be effective 9/16/2021.

Filed Date: 9/15/21.

Accession Number: 20210915-5090.

Comment Date: 5 p.m. ET 10/6/21.

Docket Numbers: ER21-2890-000.

Applicants: PSEG Fossil Sewaren Urban Renewal LLC.

Description: § 205(d) Rate Filing: Clean-Up of Market-Based Rate Tariff to be effective 9/16/2021.

Filed Date: 9/15/21.

Accession Number: 20210915-5094.

Comment Date: 5 p.m. ET 10/6/21.

Docket Numbers: ER21-2891-000.

Applicants: Pacific Gas and Electric Company.

Description: § 205(d) Rate Filing: PG&E Redwood Valley Energy SGIA (SA 495) to be effective 11/16/2021.

Filed Date: 9/15/21.

Accession Number: 20210915-5099.

Comment Date: 5 p.m. ET 10/6/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2021.
Debbie-Anne A. Reese,
Deputy Secretary.

[FR Doc. 2021-20384 Filed 9-20-21; 8:45 am]

BILLING CODE 6717-01-P